DEPARTMENT OF HEALTH AND HUMAN SERVICES

Administration for Children and Families

President's Committee for People With Intellectual Disabilities (PCPID); Notice of Meeting

AGENCY: President's Committee for People with Intellectual Disabilities (PCPID); Department of Health and Human Services.

ACTION: Corrected notice of meeting.

SUMMARY: This document clarifies and corrects the notice that was published in the Federal Register on October 9, 2003 (68 FR 58352). It corrects a statement that a portion of the meeting would be closed to the public. The full Committee meeting of the President's Committee for People with Intellectual Disabilities will be open to the public pursuant to section 10(a)(1) of the Federal Advisory Committee Act (5 U.S.C. App. 2). Subcommittees of the Committee will have breakout working sessions from 1:30 p.m. to 4 p.m. for the purpose of preliminary discussions on issues of the PCPID. This notice is filed less than 15 calendar days prior to the meeting date due to scheduling conflicts.

FOR FURTHER INFORMATION CONTACT: Sally Atwater, Executive Director, President's Committee for People with Intellectual Disabilities. Aerospace Center Building, Suite 701, 370 L'Enfant Promenade, SW., Washington, DC 20447, Telephone (202) 619-0634, Fax (202) 205-9519, E-mail: satwater@acf.hhs.gov.

Dated: October 9, 2003.
Sally Atwater,
Executive Director, President's Committee for People with Intellectual Disabilities.

[FR Doc. 03-26277 Filed 10-16-03; 8:45 am]

BILLING CODE 4184-01-M